DEPARTMENT OF THE TREASURY

Internal Revenue Service

26 CFR Part 41

[REG-122813-11]

RIN 1545-BK35

Highway Use Tax; Filing and Payment for Taxable Period Beginning July 1, 2011

AGENCY: Internal Revenue Service (IRS), Treasury.

ACTION: Notice of proposed rulemaking by cross-reference to temporary regulations.

SUMMARY: In the Rules and Regulations section of this issue of the Federal Register, the IRS is issuing temporary regulations that provide guidance on the filing of Form 2290 “Heavy Highway Vehicle Use Tax Return” and payment of the associated highway use tax for the taxable period beginning July 1, 2011. These regulations affect owners and operators of highway motor vehicles with a taxable gross weight of 55,000 pounds or more. The text of the temporary regulations also serves as the text of the proposed regulations on this subject.

DATES: Written and electronic comments and requests for a public hearing must be received by October 18, 2011.

ADDRESSES: Send submissions to: CC:PA:LPD:PR (REG-122813-11), Room 5203, Internal Revenue Service, P.O. Box 7604, Ben Franklin Station, Washington, DC 20044. Submissions may be hand-delivered to: CC:PA:LPD:PR Monday through Friday between the hours of 8 a.m. and 4 p.m. to: CC:PA:LPD:PR (REG-122813-11), Courier's Desk, Internal Revenue Service, 1111 Constitution Avenue, NW.; Washington, DC, or sent electronically via the Federal eRulemaking Portal at http://www.regulations.gov (IRS REG-122813-11).

FOR FURTHER INFORMATION CONTACT: Concerning the proposed regulations, Natalie Payne, (202) 622-3130; concerning submissions of comments and requests for a public hearing, Regina Johnson, (202) 622-7180 (not toll-free numbers).

SUPPLEMENTARY INFORMATION:

Background

This document contains proposed amendments to the Highway Use Tax Regulations (26 CFR part 41) under sections 6001, 6071 and 6151 of the Internal Revenue Code (Code). The text of temporary regulations published in this issue of the Federal Register also serves as the text of these proposed regulations. The preamble to the temporary regulations explains the temporary regulations.

Proposed Effective Date

These regulations are proposed to apply to taxable use of highway motor vehicles occurring on or after July 1, 2011.

Special Analyses

It has been determined that this notice of proposed rulemaking is not a significant regulatory action as defined in Executive Order 12866, as supplemented by Executive Order 13563. Therefore, a regulatory assessment is not required. It also has been determined that section 553(b) of the Administrative Procedure Act (5 U.S.C. chapter 5) does not apply to this regulation, and because this regulation does not impose a collection of information on small entities, the provisions of the Regulatory Flexibility Act (5 U.S.C. chapter 6) do not apply. Pursuant to section 7805(f) of the Code, this regulation has been submitted to the Chief Counsel for Advocacy of the Small Business Administration for comment on its impact on small business.

Comments and Requests for a Public Hearing

Before these proposed regulations are adopted as final regulations, consideration will be given to any written comments (a signed original and eight (8) copies) or electronic comments that are submitted timely to the IRS. All comments will be available for public inspection and copying. A public hearing will be scheduled if requested in writing by any person that timely submits written comments. If a public hearing is scheduled, notice of the date, time, and place for the hearing will be published in the Federal Register.

Drafting Information

The principal author of these regulations is Natalie Payne, Office of the Associate Chief Counsel (Passthroughs and Special Industries). However, other personnel from the IRS and the Treasury Department participated in their development.

List of Subjects in 26 CFR Part 41

Excise taxes, Motor vehicles, Reporting and recordkeeping requirements.

Proposed Amendments to the Regulations

Accordingly, 26 CFR part 41 is proposed to be amended as follows:

PART 41—EXCISE TAX ON USE OF CERTAIN HIGHWAY MOTOR VEHICLES

Paragraph 1. The authority citation for part 41 is amended to read in part as follows:

Authority: 26 U.S.C. 7805. * * *

Section 41.6001-2 also issued under 26 U.S.C. 6001. * * *

Section 41.6071(a)-1 also issued under 26 U.S.C. 6071(a). * * *

Section 41.6151(a)-1 also issued under 26 U.S.C. 6151(a). * * *

Par. 2. Section 41.6001-2 is amended by revising paragraphs (b)(1)(ii), (b)(4)(ii), (c)(2)(ii) and (c)(2)(iii) to read as follows:

§ 41.6001-2 Proof of payment for State registration purposes.

* * * * *

(b) * * *

(1) * * *

(ii) [The text of this proposed amendment to § 41.6001-2(b)(1)(ii) is the same as the text of § 41.6001-2T(b)(1)(ii) published elsewhere in this issue of the Federal Register].

* * * * *

(4) * * *

(ii) [The text of this proposed amendment to § 41.6001-2(b)(4)(ii) is the same as the text of § 41.6001-2T(b)(4)(ii) published elsewhere in this issue of the Federal Register].

* * * * *

(c) * * *

(2) * * *

(ii) [The text of this proposed amendment to § 41.6001-2(c)(2)(ii) is the same as the text of § 41.6001-2T(c)(2)(ii) published elsewhere in this issue of the Federal Register].

(iii) [The text of this proposed amendment to § 41.6001-2(c)(iii) is the same as the text of § 41.6001-2T(c)(2)(iii) published elsewhere in this issue of the Federal Register].

* * * * *

Par. 3. Section 41.6071(a)-1 is amended by adding paragraph (c) to read as follows:

§ 41.6071(a)-1 Time for filing returns.

* * * * *

(c) [The text of this proposed amendment to § 41.6071(a)-1(c) is the same as the text of § 41.6071(a)-1T(c) through (c)(3) published elsewhere in this issue of the Federal Register].

Par. 4. Section 41.6151(a)-1 is revised to read as follows:

§ 41.6151(a)-1 Time and place for paying tax.

[The text of this proposed amendment to § 41.6151(a)-1 is the same as the text of § 41.6151(a)-1T(a) and (b) published elsewhere in this issue of the Federal Register].

Steven T. Miller,
Deputy Commissioner for Services and Enforcement.

[FR Doc. 2011-18250 Filed 7-15-11; 4:15 pm]

BILLING CODE 4830-01-P